ENVIRONMENTAL PROTECTION AGENCY

40 CFR Part 52

[EPA-R09-OAR-2015-0316; FRL-9966-82-Region 9]

Approval and Promulgation of State Implementation Plans; Nevada; Regional Haze Progress Report; Correction

AGENCY: Environmental Protection Agency (EPA).

ACTION: Final rule, correction.

SUMMARY: The Environmental Protection Agency (EPA) is correcting a final rule that appeared in the Federal Register on August 8, 2017. That rule approved the “Nevada Regional Haze 5-Year Progress Report” as a revision to the Nevada Regional Haze State Implementation Plan (SIP) and re-codified our prior approval of the Nevada Regional Haze SIP.

DATES: This action is effective on September 7, 2017.

FOR FURTHER INFORMATION CONTACT: Krishna Viswanathan, EPA, Region IX, Air Division, AIR-2, 75 Hawthorne Street, San Francisco, CA 94105. Krishna Viswanathan may be reached at (520) 999-7880 or viswanathan.krishna@epa.gov.

SUPPLEMENTARY INFORMATION: In FR Doc. 2017-16491 appearing on page 37024 in the Federal Register of Tuesday, August 8, 2017, the following correction is made:

§ 52.1470 [Corrected]

1. On page 37024, in the third column, in amendment 2.b. to § 52.1470, the instruction “Adding, under the heading “Air Quality Implementation Plan for the State of Nevada” two entries before the entry “Small Business Stationary Source Technical and Environmental Compliance Assistance Program” ” is corrected to read “Adding two entries under the heading “Air Quality Implementation Plan for the State of Nevada” before the second instance of the entry “Small Business Stationary Source Technical and Environmental Compliance Assistance Program”.”

Dated: August 22, 2017.
Debbie Jordan,
Acting Regional Administrator, Region IX.

[FR Doc. 2017-18769 Filed 9-5-17; 8:45 am]

BILLING CODE 6560-50-P